DEPARTMENT OF COMMERCE

International Trade Administration

[A-570-831]

Notice of Extension of Time Limit for Final Results of Antidumping Duty Administrative Review and New Shipper Reviews: Fresh Garlic from the People's Republic of China

AGENCY: Import Administration, International Trade Administration, Department of Commerce.

EFFECTIVE DATE: March 23, 2006.

FOR FURTHER INFORMATION CONTACT: Katharine Huang, AD/CVD Operations, Office 8, Import Administration, International Trade Administration, U.S. Department of Commerce, 14th Street and Constitution Avenue, NW., Washington, DC 20230; telephone; (202) 482-1271.

SUPPLEMENTARY INFORMATION:

Background

The Department of Commerce (“The Department”) published the preliminary results of the administrative review and new shipper reviews of the antidumping duty order on fresh garlic from the People's Republic of China covering the period November 1, 2003, through October 31, 2004, on November 18, 2005. See Fresh Garlic from the People's Republic of China: Preliminary Results of Antidumping Duty Administrative Review and Preliminary Results of New Shipper Reviews, 70 FR 69942 (November 18, 2005) (“Preliminary Results”).

Extension of Time Limits for Final Results

Pursuant to section 751(a)(3)(A) of the Tariff Act of 1930, as amended (“the Act”), and section 351.213(h)(1) of the Department's regulations, the Department shall issue the preliminary results of an administrative review within 245 days after the last day of the anniversary month of the date of publication of the antidumping duty order. The Act further provides that the Department shall issue the final results of review within 120 days after the date on which the notice of the preliminary results was published in the Federal Register. However, if the Department determines that it is not practicable to complete the review within this time period, section 751(a)(3)(A) of the Act and section 351.213(h)(2) of the Department's regulations allow the Department to extend the 245-day period to 365 days and the 120-day period to 180 days. We have determined that it is not practicable to complete these reviews by March 18, 2006.¹ Several significant issues were raised in the briefs which warrant further analysis, including the “intermediate-product valuation methodology,” which we applied in the Preliminary Results, and the surrogate value for garlic bulbs (i.e., the intermediate product). For these reasons, the Department is extending the time limit for the completion of these final results by 30 days until no later than Monday, April 17, 2006, which is 150 days from the date on which the notice of the Preliminary Results was published.

¹ As noted in the Preliminary Results, the two new shipper respondents and the petitioners agreed to waive the time limits applicable to the new shipper reviews and to permit the Department to conduct the new shipper reviews concurrently with the administrative review.

This notice is issued and published in accordance with section 751(a)(3)(A) and 777(i) of the Act.

Dated: March 16, 2006.
Stephen J. Claeys,
Deputy Assistant Secretary for Import Administration.

[FR Doc. E6-4214 Filed 3-22-06; 8:45 am]

BILLING CODE 3510-DS-S